DEPARTMENT OF COMMERCE

National Oceanic and Atmospheric Administration

RIN 0648-XD443

Identifying Research Funding Priorities for a Potential Competitive Financial Assistance Program Addressing the Conservation and Recovery of Pinnipeds in Waters off Alaska

AGENCY: National Marine Fisheries Service (NMFS), National Oceanic and Atmospheric Administration (NOAA), Commerce.

ACTION: Notice; request for comments.

SUMMARY: NMFS is considering the adoption of a new competitive, merit-based, financial assistance program supporting research on Alaska pinniped populations (seals and sea lions). To this end, NMFS is soliciting comments from the public and the marine mammal research community concerning possible program priorities to consider for an annual Alaska Pinniped Research Program. The objective of the program would be to support effective conservation and management of pinnipeds in waters off Alaska through a grant program focused on high priority research objectives related to NMFS recovery plans, conservation plans, research plans (including those developed with Alaska Native co-management organizations), or post-delisting monitoring plans for these species. Final competitive program priorities will be selected by NMFS after considering input received from the public.

DATES: Comments must be received no later than November 7, 2014.

ADDRESSES: You may submit comments, identified by FDMS docket Number NOAA-NMFS-2014-0123, any of the following methods:

Electronic Submissions: Submit all electronic public comments via the Federal eRulemaking Portal. Go to www.regulations.gov/#!docketDetail;D=NOAA-NMFS-2014-0123, click the “Comment Now!” icon, complete the required fields, and enter or attach your comments.

Mail: Submit written comments to Jon Kurland, Assistant Regional Administrator for Protected Resources, Alaska Region NMFS, Attn: Ellen Sebastian, P.O. Box 21668, Juneau, AK 99802-1668.

Instructions: Comments sent by any other method, to any other address or individual, or received after the end of the comment period, may not be considered by NMFS. All comments received are a part of the public record and will generally be posted for public viewing on http://www.regulations.gov without change. All personal identifying information (e.g., name, address, etc.), confidential business information, or otherwise sensitive information submitted voluntarily by the sender will be publicly accessible. NMFS will accept anonymous comments (enter N/A in the required fields if you wish to remain anonymous). Attachments to electronic comments will be accepted in Microsoft Word, Excel, or Adobe PDF file formats only.

Copies of pertinent NMFS recovery plans, conservations plans, research plans (including those developed with Alaska Native co-management organizations), and post-delisting monitoring plans for Alaska pinniped species are available at http://alaskafisheries.noaa.gov.

FOR FURTHER INFORMATION CONTACT: Kim Rivera, NMFS Alaska Region, 907-586-7424, kim.rivera@noaa.gov.

SUPPLEMENTARY INFORMATION: NMFS is responsible for the stewardship, conservation, and management of pinniped species in Alaska, including the Steller sea lion (Eumetopias jubatus), Northern fur seal (Callorhinus ursinus), ringed seal (Phoca hispida), bearded seal (Erignathus barbatus), spotted seal (Phoca largha), ribbon seal (Histriophoca fasciata), and harbor seal (Phoca vitulina richardii). Under the Endangered Species Act (ESA), the western Distinct Population Segment of Steller sea lions is listed as endangered and the Arctic subspecies of ringed seals is listed as threatened. NMFS is entrusted with the recovery of these ESA-listed species and under the Marine Mammal Protection Act, as well as with the conservation of all pinniped populations in waters off Alaska. Additionally, NMFS partners with Alaska Native Organization in the co-management of marine mammal stocks which are an important subsistence resource throughout Alaska. Beginning in Fiscal Year 2015, NMFS is considering supporting pinniped research in Alaska that would be administered through a competitively-funded, merit-based grants program. This proposed program would restrict its focus on Alaska pinnipeds under the statutory jurisdiction of NMFS (seals and sea lions); proposals focusing on marine mammals under the jurisdiction of the U.S. Fish and Wildlife Service would not be eligible.

The objectives of a potential Alaska Pinniped Research Program would include: 1) Supporting effective conservation and management of seals, sea lions, and Northern fur seals in waters off Alaska; and 2) Implementing high-priority research objectives or address species conservation priorities specified in a NMFS recovery plan, conservations plan, research plans (including those developed with Alaska Native co-management organizations), or post-delisting monitoring plans (for copies of these plans see ADDRESSES).

This is not a notice of availability of grant funds; moreover, any future funding is contingent on availability of funds. NMFS is seeking input on specific program priorities that might be considered for inclusion in an annual Alaska Pinniped Research Program that addresses the above-stated objectives. If NMFS proceeds with such a program, NMFS will issue a Federal Funding Opportunity notice to solicit applications for grants to address the selected priorities.

Dated: October 2, 2014.
Perry F. Gayaldo,
Deputy Director, Office of Protected Resources, National Marine Fisheries Service.

[FR Doc. 2014-23928 Filed 10-7-14; 8:45 am]

BILLING CODE 3510-22-P